DEPARTMENT OF COMMERCE

International Trade Administration

[C-570-971]

Multilayered Wood Flooring From the People's Republic of China: Preliminary Results of Countervailing Duty Administrative Review, and Intent To Rescind Review, in Part; 2018

AGENCY: Enforcement and Compliance, International Trade Administration, Department of Commerce.

SUMMARY: The Department of Commerce (Commerce) preliminarily determines that countervailable subsidies are being provided to producers and exporters of multilayered wood flooring (wood flooring) from the People's Republic of China (China). The period of review (POR) is January 1, 2018, through December 31, 2018. Interested parties are invited to comment on these preliminary results of review.

DATES: Applicable April 23, 2021.

FOR FURTHER INFORMATION CONTACT: Dennis McClure or Suzanne Lam, AD/CVD Operations, Office VIII, Enforcement and Compliance, International Trade Administration, U.S. Department of Commerce, 1401 Constitution Avenue NW, Washington, DC 20230; telephone: 202-482-5973 or 202-482-0783, respectively.

SUPPLEMENTARY INFORMATION:

Background

On December 8, 2011, Commerce issued a countervailing duty (CVD) order on multilayered wood flooring from China.¹ Several interested parties requested that Commerce conduct an administrative review of the Order and, on February 6, 2021, Commerce published in the Federal Register a notice of initiation of an administrative review of the Order on 166 producers/exporters for the POR.² On July 16, 2020, we rescinded this administrative review, in part, with respect to 91 companies, based on timely withdrawal of review requests.³ For events that occurred since the Initiation Notice, see the Preliminary Decision Memorandum.⁴

¹ See Multilayered Wood Flooring from the People's Republic of China: Countervailing Duty Order, 76 FR 76693 (December 8, 2011) (Order).

² See Initiation of Antidumping and Countervailing Duty Administrative Reviews, 85 FR 6896 (February 6, 2020) (Initiation Notice).

³ See Multilayered Wood Flooring from the People's Republic of China: Partial Rescission of Countervailing Duty Administrative Review; 2018, 85 FR 43207 (July 16, 2020).

⁴ See Memorandum, “Decision Memorandum for the Preliminary Results in the Countervailing Duty Administrative Review of Multilayered Wood Flooring from the People's Republic of China; 2018,” dated concurrently with, and hereby adopted by, this notice (Preliminary Decision Memorandum).

Scope of the Order

The product covered by the Order is wood flooring from China. For a complete description of the scope of the Order, see the Preliminary Decision Memorandum.

Intent to Rescind Administrative Review, in Part

Based on our analysis of U.S. Customs and Border Protection (CBP) information, and the no shipment certifications submitted by Innomaster Home (Zhongshan) Co., Ltd., Jiangsu Yuhui International Trade Co., Ltd., Jiashan On-Line Lumber Co., Ltd., and Shandong Longteng Wood Co., Ltd.,⁵ Commerce preliminarily determines that these companies had no shipments of subject merchandise during the POR. For additional information regarding this determination, see the Preliminary Decision Memorandum. Absent any evidence of shipments being placed on the record, pursuant to 19 CFR 351.213(d)(3), we intend to rescind the administrative review of these companies in the final results of review.

⁵ See Memorandum, “No Shipment Inquiry for certain companies during the period 01/01/2018 through 12/31/2018,” dated March 26, 2021.

Methodology

Commerce is conducting this review in accordance with section 751(a)(1)(A) of the Tariff Act of 1930, as amended (the Act). For each of the subsidy programs found countervailable, we preliminarily determine that there is a subsidy, i.e., a financial contribution by an “authority” that confers a benefit to the recipient, and that the subsidy is specific.⁶ For a full description of the methodology underlying our preliminary conclusions, including our reliance, in part, on adverse facts available pursuant to sections 776(a) and (b) of the Act, see the Preliminary Decision Memorandum.

⁶ See sections 771(5)(B) and (D) of the Act regarding financial contribution; section 771(5)(E) of the Act regarding benefit; and section 771(5A) of the Act regarding specificity.

The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://enforcement.trade.gov/frn/index.html. A list of topics discussed in the Preliminary Decision Memorandum is included as Appendix I to this notice.

Preliminary Rate for Non-Selected Companies Under Review

There are 67 companies for which a review was requested and not rescinded, and which were not selected as mandatory respondents or found to be cross-owned with a mandatory respondent. For these companies, because the rates calculated for the mandatory respondents, Jiangsu Senmao Bamboo and Wood Industry Co., Ltd. (Jiangsu Senmao) and Riverside Plywood Corp. (Riverside Plywood), were above de minimis and not based entirely on facts available, we applied a subsidy rate based on a weighted-average of the subsidy rates calculated for Jiangsu Senmao and Riverside Plywood using publicly-ranged sales data submitted by these mandatory respondents. This methodology to establish the all-others subsidy rate is consistent with our practice and section 705(c)(5)(A) of the Act. For further information on the calculation of the non-selected respondent rate, refer to the section in the Preliminary Decision Memorandum entitled “Non-Selected Companies Under Review.” For a list of the non-selected companies, see Appendix II to this notice.

Preliminary Results of the Review

In accordance with 19 CFR 351.221(b)(4)(i), we calculated a countervailable subsidy rate for each of the mandatory respondents, Jiangsu Senmao and Riverside Plywood, and their cross-owned affiliates, where applicable.

⁷ Cross-owned affiliates are Baroque Timber Industries (Zhongshan) Co., Ltd. and Suzhou Times Flooring Co., Ltd.

⁸ See Appendix II.

We preliminarily find the countervailable subsidy rates for the mandatory and non-selected respondents under review to be as follows:

Producer/exporter | Subsidy rate (percent)
Riverside Plywood Corp. and its Cross-Owned Affiliates ⁷ | 9.36
Jiangsu Senmao Bamboo and Wood Industry Co., Ltd. | 5.19
Non-Selected Companies Under Review ⁸ | 8.12

Disclosure and Public Comment

We intend to disclose to interested parties the calculations performed for these preliminary results within five days of the date of publication of this notice in accordance with 19 CFR 351.224(b). Interested parties may submit case briefs no later than 30 days after the date of publication of these preliminary results of review.⁹ Rebuttals to case briefs may be filed no later than seven days after the case briefs are filed, and all rebuttal comments must be limited to comments raised in the case briefs.¹⁰ Note that Commerce has temporarily modified certain of its requirements for serving documents containing business proprietary information until further notice.¹¹

⁹ See 19 CFR 351.309(c).

¹⁰ See 19 CFR 351.309(d).

¹¹ See Temporary Rule Modifying AD/CVD Service Requirements Due to COVID-19; Extension of Effective Period, 85 FR 29615 (May 18, 2020); and Temporary Rule Modifying AD/CVD Service Requirements Due to COVID-19; Extension of Effective Period, 85 FR 41363 (July 10, 2020).

Pursuant to 19 CFR 351.309(c)(2) and (d)(2), parties who submit case briefs or rebuttal briefs in this review are encouraged to submit with each argument: (1) A statement of the issue; (2) a brief summary of the argument; and (3) a table of authorities.

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a time and date to be determined. Parties should confirm by telephone the date, time, and location of the hearing two days before the scheduled date.

Unless extended, we intend to issue the final results of this administrative review, which will include the results of our analysis of the issues raised in the case briefs, within 120 days of publication of these preliminary results in the Federal Register, pursuant to section 751(a)(3)(A) of the Act and 19 CFR 351.213(h).

Assessment Rates

In accordance with 19 CFR 351.221(b)(4)(i), we preliminarily assigned subsidy rates in the amounts shown above for the producer/exporters shown above. Upon completion of the administrative review, consistent with section 751(a)(1) of the Act and 19 CFR 351.212(b)(2), Commerce shall determine, and CBP shall assess, countervailing duties on all appropriate entries covered by this review. For the companies for which this review is rescinded, Commerce will instruct CBP to assess countervailing duties on all appropriate entries at a rate equal to the cash deposit of estimated countervailing duties required at the time of entry, or withdrawal from warehouse, for consumption, during the period January 1, 2018, through December 31, 2018, in accordance with 19 CFR 351.212(c)(l)(i). Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends, upon publication of the final results, to instruct CBP to collect cash deposits of estimated countervailing duties in the amounts shown for each of the respective companies listed above on shipments of subject merchandise entered, or withdrawn from warehouse, for consumption on or after the date of publication of the final results of this administrative review. For all non-reviewed firms, we will instruct CBP to continue to collect cash deposits at the most recent company-specific or all-others rate applicable to the company. These cash deposit requirements, when imposed, shall remain in effect until further notice.

Notification to Interested Parties

These preliminary results are issued and published pursuant to sections 751(a)(1) and 777(i)(1) of the Act, and 19 CFR 351.221(b)(4).

Dated: April 19, 2021.
Christian Marsh,
Acting Assistant Secretary for Enforcement and Compliance.

Appendix I—List of Topics Discussed in the Preliminary Decision Memorandum

I. Summary

II. Background

III. Non-Selected Companies Under Review

IV. Scope of the Order

V. Diversification of China's Economy

VI. Use of Facts Otherwise Available and Application of Adverse Inferences

VII. Subsidies Valuation

VIII. Interest Rate Benchmarks, Discount Rates, Inputs, Land-Use and Electricity

IX. Analysis of Programs

X. Recommendation

Appendix II—Non-Selected Companies Under Review

1. Anhui Boya Bamboo & Wood Products Co., Ltd.

2. Anhui Longhua Bamboo Product Co., Ltd.

3. Anhui Yaolong Bamboo & Wood Products Co., Ltd.

4. Armstrong Wood Products (Kunshan) Co., Ltd.

5. Benxi Flooring Factory (General Partnership)

6. Benxi Wood Company

7. Changzhou Hawd Flooring Co., Ltd.

8. Dalian Huilong Wooden Products Co., Ltd.

9. Dalian Jaenmaken Wood Industry Co., Ltd.

10. Dalian Jiahong Wood Industry Co., Ltd.

11. Dalian Kemian Wood Industry Co., Ltd.

12. Dalian Penghong Floor Products Co., Ltd.

13. Dalian Qianqiu Wooden Product Co., Ltd.

14. Dalian Shengyu Science and Technology Development Co.

15. Dalian Shumaike Floor Manufacturing Co., Ltd.

16. Dalian T-Boom Wood Products Co., Ltd.

17. Dongtai Fuan Universal Dynamics, LLC

18. Dun Hua Sen Tai Wood Co., Ltd.

19. Dunhua City Dexin Wood Industry Co., Ltd.

20. Dunhua City Hongyuan Wood Industry Co., Ltd.

21. Dunhua City Jisen Wood Industry Co., Ltd.

22. Dunhua Shengda Wood Industry Co., Ltd.

23. Fine Furniture (Shanghai) Limited

24. Fusong Jinlong Wooden Group Co., Ltd.

25. Fusong Jinqiu Wooden Product Co., Ltd.

26. Fusong Qianqiu Wooden Product Co., Ltd.

27. Guangzhou Homebon Timber Manufacturing Co., Ltd.

28. HaiLin LinJing Wooden Products, Ltd

29. Hangzhou Hanje Tec Company Limited

30. Hangzhou Zhengtian Industrial Co., Ltd.

31. Hunchun Forest Wolf Wooden Industry Co., Ltd.

32. Hunchun Xingjia Wooden Flooring Inc.

33. Huzhou Chenghang Wood Co., Ltd.

34. Huzhou Fulinmen Imp. & Exp. Co., Ltd.

35. Huzhou Jesonwood Co., Ltd.

36. Huzhou Sunergy World Trade Co., Ltd.

37. Jiangsu Guyu International Trading Co., Ltd.

38. Jiangsu Keri Wood Co., Ltd.

39. Jiangsu Mingle Flooring Co., Ltd.

40. Jiangsu Simba Flooring Co., Ltd.

41. Jiashan HuiJiaLe Decoration Material Co., Ltd.

42. Jiaxing Hengtong Wood Co., Ltd.

43. Jilin Xinyuan Wooden Industry Co., Ltd.

44. Karly Wood Product Limited

45. Kemian Wood Industry (Kunshan) Co., Ltd

46. Kingman Floors Co., Ltd.

47. Linyi Anying Wood Co., Ltd.

48. Linyi Youyou Wood Co., Ltd. (successor-in-interest to Shanghai Lizhong Wood Products Co., Ltd.) (a/k/a The Lizhong Wood Industry Limited Company of Shanghai)

49. Pinge Timber Manufacturing (Zhejiang) Co., Ltd.

50. Power Dekor Group Co. Ltd.

51. Scholar Home (Shanghai) New Material Co. Ltd.

52. Shanghaifloor Timber (Shanghai) Co., Ltd.

53. Sino-Maple (Jiangsu) Co., Ltd.

54. Suzhou Dongda Wood Co., Ltd.

55. Tongxiang Jisheng Import and Export Co., Ltd.

56. Xiamen Yung De Ornament Co., Ltd.

57. Xuzhou Shenghe Wood Co., Ltd.

58. Yekalon Industry, Inc.

59. Yihua Lifestyle Technology Co., Ltd.

60. Yingyi-Nature (Kunshan) Wood Industry Co., Ltd.

61. Zhejiang Dadongwu Greenhome Wood Co., Ltd.

62. Zhejiang Fuerjia Wooden Co., Ltd.

63. Zhejiang Jiechen Wood Industry Co., Ltd.

64. Zhejiang Longsen Lumbering Co., Ltd.

65. Zhejiang Shiyou Timber Co., Ltd.

66. Zhejiang Shuimojiangnan New Material Technology Co., Ltd.

67. Zhejiang Simite Wooden Co., Ltd.

[FR Doc. 2021-08512 Filed 4-22-21; 8:45 am]

BILLING CODE 3510-DS-P